DEPARTMENT OF THE INTERIOR

National Park Service

[NPS-WASO-NAGPRA-15535; PPWOCRADN0-PCU00RP14.R50000]

Notice of Inventory Completion: Ohio Historical Society, Columbus, OH

AGENCY: National Park Service, Interior.

ACTION: Notice.

SUMMARY: The Ohio Historical Society has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Ohio Historical Society. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Ohio Historical Society at the address in this notice by June 16, 2014.

ADDRESSES: Bradley Lepper, Ohio Historical Society, 800 East 17th Ave., Columbus, OH 43211, telephone (614) 298-2064, email blepper@ohiohistory.org.

SUPPLEMENTARY INFORMATION: Notice is here given in accordance with the Native American Graves Protection and Repatriation Act (NAGPRA), 25 U.S.C. 3003, of the completion of an inventory of human remains and associated funerary objects under the control of the Ohio Historical Society, Columbus, OH. The human remains were removed from Pickaway County, OH.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Ohio Historical Society professional staff in consultation with representatives of the Eastern Shawnee Tribe of Oklahoma.

History and Description of the Remains

In 1894, human remains representing, at minimum, three individuals, were removed from the area of the Pickaway Plains in the vicinity of Shawneetown, also known as Cornstalk's Town, in Pickaway County, OH, by Warren K. Moorehead. The human remains represent two adults and one subadult. The adults were reported under numbers A4345/2730, 2731, 2732, 2733, 2738 and 2739. The subadult was reported under number A4345/2735. No known individuals were identified. The three associated funerary objects are a non-diagnostic broken flint projectile point (A4345/2764); a prehistoric projectile point (A4345/2755); and a silver pendant (A14/42), collected by Mr. Marshall Anderson and purchased by the museum in the 1890s.

At the time of removal, the remains were identified as possibly Shawnee. The location of removal, near Shawneetown, supports this identification. The prehistoric projectile point associated with the remains calls this identification into question, but it is possible the object was collected and retained by an historic Shawnee individual. Based on the archeological context, museum records, and consultation, a relationship of shared group identity can be reasonably traced between the human remains and associated funerary objects and the Eastern Shawnee Tribe of Oklahoma.

Determinations Made by the Ohio Historical Society

Officials of the Ohio Historical Society have determined that:

• Pursuant to 25 U.S.C. 3001(9), the human remains described in this notice represent the physical remains of 3 individuals of Native American ancestry.

• Pursuant to 25 U.S.C. 3001(3)(A), the 3 objects described in this notice are reasonably believed to have been placed with or near individual human remains at the time of death or later as part of the death rite or ceremony.

• Pursuant to 25 U.S.C. 3001(2), there is a relationship of shared group identity that can be reasonably traced between human remains and associated funerary objects and the Eastern Shawnee Tribe of Oklahoma.

Additional Requestors and Disposition

Lineal descendants or representatives of any Indian tribe or Native Hawaiian organization not identified in this notice that wish to request transfer of control of these human remains should submit a written request with information in support of the request to Bradley Lepper, Ohio Historical Society, 800 East 17th Avenue, Columbus, OH 43211, telephone (614-298-2064, email blepper@ohiohistory.org, by June 16, 2014. After that date, if no additional requestors have come forward, transfer of control of the human remains and associated funerary objects to the Eastern Shawnee Tribe of Oklahoma may proceed.

The Ohio Historical Society is responsible for notifying the Eastern Shawnee Tribe of Oklahoma.

Dated: April 10, 2014.
Sherry Hutt,
Manager, National NAGPRA Program.

[FR Doc. 2014-11241 Filed 5-14-14; 8:45 am]

BILLING CODE 4312-50-P